DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Application for Insular Watch and Jewelry Program Benefits.

OMB Control Number: 0625-0040.

Form Number(s): ITA-334P; -334P-1; -334P-2; and -334P-3.

Type of Request: Regular submission (extension of a currently approved information collection).

Burden Hours: 4.

Number of Respondents: 2.

Average Hours per Response: 1.

Needs and Uses: Public Law 97-446, as amended by Public Law 103-465, Public Law 106-36, and Public Law 108-429, requires the Department of Commerce and the Department of the Interior (Departments) to administer the distribution of duty exemptions to watch producers and duty refunds, involving several million dollars biannually, to watch and jewelry producers in the insular possessions (i.e., the U.S. Virgin Islands, Guam, American Samoa) and the Northern Mariana Islands. The primary consideration in collecting information is to administer the laws, prevent abuse of the program, and permit a fair and equitable distribution of its benefits. Form ITA-334P is the principal program form used for recording the annual operational data on the basis of which program entitlements are distributed among the various producers (and the provision of which to the Departments constitutes their annual application for these entitlements). The form is also used by new firms making application for entitlements for the first time.

Affected Public: Business or other for-profit organization.

Frequency: Biannually and annually.

Respondent's Obligation: Required to obtain or retain benefit.

OMB Desk Officer: Wendy Liberante, (202) 395-3647.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Wendy Liberante, OMB Desk Officer, Fax number (202) 395-7285 or via the Internet at Wendy_L._Liberante@omb.eop.gov.

Dated: January 20, 2012.
Gwellnar Banks,
Management Analyst, Office of the Chief Information Officer.

[FR Doc. 2012-1591 Filed 1-25-12; 8:45 am]

BILLING CODE 3510-DS-P